DEPARTMENT OF THE INTERIOR

Fish and Wildlife Service

50 CFR Part 17

RIN 1018-AT37

Endangered and Threatened Wildlife and Plants; Proposed Rule To Remove the Virginia Northern Flying Squirrel (Glaucomys sabrinus fuscus) from the Federal List of Endangered and Threatened Wildlife

AGENCY: Fish and Wildlife Service, Interior.

ACTION: Proposed rule; extension of comment period; correction.

SUMMARY: We, the U.S. Fish and Wildlife Service (Service or we), extended the public comment period on the proposed rule to remove the Virginia northern flying squirrel (Glaucomys sabrinus fuscus), more commonly known as the West Virginia northern flying squirrel (WVNFS), on February 21, 2007 (72 FR 7852). However, we inadvertently left out the e-mail address to which the public could send comments. This document corrects that error.

DATES: The public comment period for the proposed rule published on December 19, 2006 (71 FR 75924) ends on April 23, 2007. If you previously submitted a comment through the regulations.gov Web site and did not receive an automatic confirmation that we received your comment, please either resubmit those comments or contact us. If you previously submitted a comment to us via mail, courier, or fax, you do not need to resubmit those comments as they have been incorporated into the public record and will be fully considered in the final determination. Any comments received after the closing date may not be considered in the final decision on the proposal.

ADDRESSES: You may submit comments on the proposed delisting by any one of several methods:

1. You may submit written comments and information to the Assistant Chief, Division of Endangered and Threatened Species, U.S. Fish and Wildlife Service, Northeast Regional Office, 300 Westgate Center Drive, Hadley, MA 01035.

2. You may hand-deliver written comments to our Northeast Regional Office, at the above address.

3. You may fax your comments to 413-253-8482.

4. You may e-mail your comments to wvnfscomments@fws.gov.

5. You may use the Federal eRulemaking Portal: http://www.regulations.gov. Follow the instructions for submitting comments.

Comments and materials received will be available for public inspection, by appointment, during normal business hours at our Northeast Regional Office.

FOR FURTHER INFORMATION CONTACT: Diane Lynch at our Northeast Regional Office (telephone: 413-253-8628) or the Field Office Supervisor, West Virginia Field Office, 694 Beverly Pike, Elkins, WV 26241 (telephone: 304-636-6586).

SUPPLEMENTARY INFORMATION: On December 19, 2006, the Service published a proposed rule (71 FR 75924), under the authority of the Act, to remove the WVNFS from the Federal List of Endangered and Threatened Wildlife, due to recovery. On February 21, 2007, we published a 60-day comment period extension (72 FR 7852) to the proposed rule. However, we inadvertently left out the email address to which the public could send comments. We now correct that error.

Please see the comment period extension document (72 FR 7852) for a list of subjects for which we are seeking comments. The public comment period for the proposed rule ends on April 23, 2007.

Authority: The authority for this action is the Endangered Species Act of 1973, as amended (16 U.S.C. 1531 et seq.).

Dated: February 21, 2007.
Sara Prigan,
Fish and Wildlife Service Federal Register Liaison.

[FR Doc. 07-855 Filed 3-5-07; 8:45 am]

BILLING CODE 4310-55-P